DEPARTMENT OF COMMERCE

International Trade Administration

[C-580-835]

Stainless Steel Sheet and Strip in Coils From the Republic of Korea: Final Results and Partial Rescission of Countervailing Duty Administrative Review; 2022

AGENCY: Enforcement and Compliance, International Trade Administration, Department of Commerce.

SUMMARY: The U.S. Department of Commerce (Commerce) determines that certain producers and exporters of stainless steel sheet and strip in coils (SSSS in coils) from the Republic of Korea (Korea) received countervailable subsidies during the period of review (POR) January 1, 2022, through December 31, 2022.

DATES: Applicable April 16, 2025.

FOR FURTHER INFORMATION CONTACT: Patrick Barton, AD/CVD Operations, Office III, Enforcement and Compliance, International Trade Administration, U.S. Department of Commerce, 1401 Constitution Avenue NW, Washington, DC 20230; telephone: (202) 482-0012.

SUPPLEMENTARY INFORMATION:

Background

On September 13, 2024, Commerce published the Preliminary Results of this administrative review in the Federal Register and invited interested parties to comment.¹ On December 9, 2024, Commerce tolled certain deadlines in this administrative proceeding by 90 days.² The deadline for these final results is now April 11, 2025. For a complete description of the events that occurred since the Preliminary Results, see the Issues and Decision Memorandum.³

¹ See Stainless Steel Sheet and Strip in Coils from the Republic of Korea: Preliminary Results and Intent to Rescind, in Part, of Countervailing Duty Administrative Review; 2022, 89 FR 74915 (September 13, 2024) (Preliminary Results), and accompanying Preliminary Decision Memorandum (PDM).

² See Memorandum, “Tolling of Deadlines for Antidumping and Countervailing Duty Proceedings,” dated December 9, 2024.

³ See Memorandum, “Issues and Decision Memorandum for the Final Results and Partial Rescission of the Administrative Review of the Countervailing Duty Order on Stainless Steel Sheet and Strip in Coils from the Republic of Korea; 2022,” dated concurrently with, and hereby adopted by, this notice (Issues and Decision Memorandum).

Scope of the Order ⁴

⁴ See Amended Final Determination: Stainless Steel Sheet and Strip in Coils from the Republic of Korea; and Notice of Countervailing Duty Orders: Stainless Steel Sheet and Strip in Coils from France, Italy, and the Republic of Korea, 64 FR 42923 (August 6, 1999) (Order).

The product covered by this Order is SSSS in coils. For a complete description of the scope of this Order, see the Issues and Decision Memorandum.

Rescission of Administrative Review, in Part

As noted in the Preliminary Results, based on our analysis of U.S. Customs and Border Protection (CBP) data, we determine that Samsung STS Co., Ltd. (Samsung STS) had no reviewable shipments, sales, or entries of subject merchandise during the POR.⁵ We received no comments or additional information from any interested parties regarding this company. Therefore, absent evidence of suspended entries during the POR on the record, we are rescinding the administrative review of Samsung STS, pursuant to 19 CFR 351.213(d)(3).

⁵ See Preliminary Results, 89 FR at 74915.

Analysis of Subsidy Programs and Comments Received

A list of topics discussed in the Issues and Decision Memorandum is included as an appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Results

Based on a review of the record and comments received from interested parties regarding our Preliminary Results, and for the reasons explained in the Issues and Decision Memorandum, we made no modifications to our calculations for these final results of review.

Methodology

Commerce conducted this administrative review in accordance with section 751(a)(1)(A) of the Tariff Act of 1930, as amended (the Act). For each of the subsidy programs found countervailable, we find that there is a subsidy, i.e., a government-provided financial contribution that gives rise to a benefit to the recipient, and that the subsidy is specific.⁶ The subsidy programs under review, and the issues raised in case and rebuttal briefs submitted by the interested parties, are discussed in the Issues and Decision Memorandum.

⁶ See sections 771(5)(B) and (D) of the Act regarding financial contribution; section 771(5)(E) of the Act regarding benefit; and section 771(5A) of the Act regarding specificity.

Final Results of Administrative Review

We determine the following net countervailable subsidy rates for the period January 1, 2022, through December 31, 2022:

⁷ In the Preliminary Results, Commerce preliminarily found Hyundai ISC to be cross-owned with Hyundai Steel Company (Hyundai Steel). See Preliminary Results PDM at 14. No parties commented on this determination; thus, we continue to find Hyundai ISC to be cross-owned with Hyundai Steel.

⁸ This rate is based upon adverse facts available (AFA). See Preliminary Decision Memorandum at 6-11; see also Memorandum, “Post-Preliminary Results Application of Adverse Facts Available,” dated October 31, 2024. No parties commented on this determination; thus, we continue to apply AFA to Geumok Tech. Co., Ltd.

Producer/exporter | Subsidy rate (percent ad valorem)
Hyundai BNG Steel Co., Ltd | 0.57
Hyundai Steel Company ⁷ | 2.47
Geumok Tech. Co., Ltd.⁸ | 17.04

Disclosure

Because Commerce has not modified its analysis or calculations from the Preliminary Results, there are no new calculations to disclose for these final results of review.

Assessment Rates

Pursuant to section 751(a)(2)(C) of the Act and 19 CFR 351.212(b)(2), Commerce has determined, and CBP shall assess, countervailing duties on all appropriate entries of subject merchandise covered by this review. Commerce intends to issue assessment instructions to CBP no earlier than 35 days after the date of publication of the final results of this review in the Federal Register.

For the company for which this review is rescinded, Commerce will instruct CBP to assess countervailing duties on all appropriate entries at a rate equal to the cash deposit of estimated countervailing duties required at the time of entry, or withdrawal from warehouse, for consumption, during the period January 1, 2022, through December 31, 2022. Commerce intends to issue rescission instructions to CBP no earlier than 35 days after the date of publication of the notice of rescission in the Federal Register.

If a timely summons is filed at the U.S. Court of International Trade, the assessment instructions will direct CBP not to liquidate relevant entries until the time for parties to file a request for a statutory injunction has expired (i.e., within 90 days of publication).

Cash Deposit Requirements

In accordance with section 751(a)(1) of the Act, Commerce intends to instruct CBP to collect cash deposits of estimated countervailing duties in the amounts shown for the companies subject to this review for shipments of subject merchandise entered, or withdrawn from warehouse, for consumption on or after the date of publication of the final results of this administrative review. For all non-reviewed companies, we will instruct CBP to continue to collect cash deposits of estimated countervailing duties at the most recent company-specific or all-others rate applicable to the company, as appropriate. These cash deposits, when imposed, shall remain in effect until further notice.

Administrative Protective Order (APO)

This notice also serves as a final reminder to parties subject to an APO of their responsibility concerning the return or destruction of proprietary information disclosed under APO in accordance with 19 CFR 351.305(a)(3). Timely written notification of the return or destruction of APO materials or conversion to judicial protective order is hereby requested. Failure to comply with the regulations and terms of an APO is a violation subject to sanction.

Notice to Interested Parties

These final results are issued and published in accordance with sections 751(a)(1) and 777(i)(1) of the Act, and 19 CFR 351.213(d)(4) and 19 CFR 351.221(b)(5).

Dated: April 10, 2025.
Christopher Abbott,
Deputy Assistant Secretary for Policy and Negotiations, performing the non-exclusive functions and duties of the Assistant Secretary for Enforcement and Compliance.

Appendix

List of Topics Discussed in the Issues and Decision Memorandum

I. Summary

II. Background

III. Scope of the Order

IV. Subsidies Valuation Information

V. Analysis of Programs

VI. Discussion of the Issues

Comment 1: Whether the Provision of Electricity Was Consistent with Market Principles During the POR

Comment 2: Whether the Provision of Electricity for Less Than Adequate Renumeration (LTAR) Program Is Specific

Comment 3: Whether Commerce Should Revise its Analysis of the Largest Electricity Consuming Industries

Comment 4: Whether to Modify the Benefit Calculation for the Provision of Electricity for LTAR Program

Comment 5: Whether the Provision of Korean Allocation Units (KAUs) Constitutes a Financial Contribution

Comment 6: Whether the Provision of KAUs Confers a Countervailable Benefit

Comment 7: Whether the Korea Emissions Trading System (K-ETS) Program Is Specific

VII. Recommendation

[FR Doc. 2025-06468 Filed 4-15-25; 8:45 am]

BILLING CODE 3510-DS-P